DEPARTMENT OF COMMERCE

International Trade Administration

(A-570-851)

Certain Preserved Mushrooms from the People's Republic of China: Initiation of New Shipper Review

AGENCY: Import Administration, International Trade Administration, Department of Commerce.

EFFECTIVE DATE: September 27, 2007.

SUMMARY: The Department of Commerce (“the Department”) has received a request from Dujiangyan Xingda Foodstuff Co., Ltd. (“Xingda”), a producer and exporter of preserved mushrooms, to conduct a new shipper review (“NSR”) of the antidumping duty order on certain preserved mushrooms from the People's Republic of China (“PRC”). Since this request meets the statutory and regulatory requirements for initiation, the Department is initiating a NSR of Xingda, in accordance with section 751(a)(2)(B) of the Tariff Act of 1930, as amended (“the Act”), and 19 CFR 351.214(d).

FOR FURTHER INFORMATION CONTACT: Thomas Martin or Mark Manning; AD/CVD Operations, Office 4, Import Administration, International Trade Administration, U.S. Department of Commerce, 14th Street and Constitution Ave., NW, Washington, DC 20230; telephone: (202) 482-3936 and (202) 482-5253, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms from the PRC has a February anniversary month. The Department received a request for a NSR from Xingda on August 30, 2007, which is during the semiannual anniversary month. See 19 CFR 351.214(d)(2).

Xingda identified itself as a producer and exporter of preserved mushrooms. Pursuant to section 751(a)(2)(B)(i)(I) of the Act, and 19 CFR 351.214(b)(2)(i), Xingda certified that it did not export preserved mushrooms to the United States during the period of investigation (“POI”). Pursuant to section 751(a)(2)(B)(i)(II) of the Act, and 19 CFR 351.214(b)(2)(iii)(A), Xingda also certified that it has never been affiliated with any exporter or producer that exported preserved mushrooms to the United States during the POI. Furthermore, the company also certified that its export activities are not controlled by the government of the PRC, satisfying the requirement of 19 CFR 351.214(b)(2)(iii)(B).

Pursuant to 19 CFR 351.214(b)(2)(iv), Xingda submitted documentation establishing the date on which the subject merchandise was first entered for consumption in the United States, the volume of that first shipment and any subsequent shipments, and the date of the first sale to an unaffiliated customer in the United States. The Department queried the U.S. Customs and Border Protection (“CBP”) entry database, which confirmed that Xingda had officially entered subject merchandise into the United States via assignment of an entry date in the Customs database by CBP.

Initiation of Review

Based on the information on the record, and in accordance with section 751(a)(2)(B) of the Act and 19 CFR 351.214(d)(1), we have determined that Xingda has met the statutory and regulatory requirements for the initiation of a NSR. Therefore, we are initiating a NSR for Xingda. See Memorandum to the File, from Thomas Martin, International Trade Compliance Analyst, through Abdelali Elouaradia, Director, Office 4, AD/CVD Operations, “Initiation of Antidumping Duty New Shipper Review: Certain Preserved Mushrooms from the People's Republic of China,” dated September 21, 2007. We intend to issue the preliminary results of this review not later than 180 days after the date on which this review is initiated, and the final results of this review within 90 days after the date on which the preliminary results are issued. See section 751(a)(2)(B)(iv) of the Act; 19 CFR 351.214(h)(i).

Pursuant to 19 CFR 351.214(g)(1)(i)(B), the period of review (“POR”) for a NSR initiated in the month immediately following the semiannual anniversary month will be the six-month period immediately preceding the semiannual anniversary month. Therefore, the POR for the NSR of Xingda is February 1, 2007, through July 31, 2007.

In cases involving non-market economies, the Department requires that a company seeking to establish eligibility for an antidumping duty rate separate from the country-wide rate provide evidence of de jure and de facto absence of government control over the company's export activities. See Notice of Final Determination of Sales at Less Than Fair Value: Bicycles From the People's Republic of China, 61 FR 19026, 19027 (April 30, 1996). Accordingly, we will issue a questionnaire to Xingda, including a separate rates section. The review will proceed if the responses provide sufficient indication that Xingda is not subject to either de jure or de facto government control with respect to its exports of preserved mushrooms. However, if Xingda does not demonstrate its eligibility for a separate rate, then the company will be deemed not separate from other companies that exported during the POI and the NSR will be rescinded as to the company.

On August 17, 2006, the Pension Protection Act of 2006 (H.R. 4) was signed into law. Section 1632 of H.R. 4 temporarily suspends the authority of the Department to instruct CBP to collect a bond or other security in lieu of a cash deposit in NSRs. Therefore, the posting of a bond or other security under section 751(a)(2)(B)(iii) of the Act and 19 CFR 351.214(e) in lieu of a cash deposit is not available in this case. Importers of subject merchandise produced and exported by Xingda must continue to pay a cash deposit of estimated antidumping duties on each entry of subject merchandise at the current PRC-wide rate of 198.63 percent.

Interested parties that require access to proprietary information in this NSR should submit applications for disclosure under administrative protective order in accordance with 19 CFR 351.305 and 351.306.

This initiation and notice are in accordance with section 751(a)(2)(B) of the Act, 19 CFR 351.214, and 19 CFR 351.221(c)(1)(i).

Dated: September 21, 2007.
Stephen J. Claeys,
Deputy Assistant Secretary for Import Administration.

[FR Doc. E7-19135 Filed 9-26-07; 8:45 am]

BILLING CODE 3510-DS-S